DEPARTMENT OF THE INTERIOR

Fish and Wildlife Service

[FWS-R8-ES-2021-N021; FXES11130800000-201-FF08E00000]

Endangered and Threatened Species; Receipt of Recovery Permit Applications

AGENCY: Fish and Wildlife Service, Interior.

ACTION: Notice of receipt of permit applications; request for comments.

SUMMARY: We, the U.S. Fish and Wildlife Service, have received applications for permits to conduct activities intended to enhance the propagation or survival of endangered or threatened species under the Endangered Species Act. We invite the public and local, State, Tribal, and Federal agencies to comment on these applications. Before issuing any of the requested permits, we will take into consideration any information that we receive during the public comment period.

DATES: We must receive your written comments on or before June 21, 2021.

ADDRESSES: Document availability and comment submission: Submit requests for copies of the applications and related documents and submit any comments by one of the following methods. All requests and comments should specify the applicant name(s) and application number(s) (e.g., TEXXXXXX).

• Email: permitsr8es@fws.gov.

• U.S. Mail: Susie Tharratt, Regional Recovery Permit Coordinator, U.S. Fish and Wildlife Service, 2800 Cottage Way, Room W-2606, Sacramento, CA 95825.

FOR FURTHER INFORMATION CONTACT: Susie Tharratt, via phone at 760-414-6561, via email at permitsr8es@fws.gov, or via the Federal Relay Service at 1-800-877-8339 for TTY assistance.

SUPPLEMENTARY INFORMATION: We, the U.S. Fish and Wildlife Service, invite the public to comment on applications for permits under section 10(a)(1)(A) of the Endangered Species Act, as amended (ESA; 16 U.S.C. 1531 et seq.). The requested permits would allow the applicants to conduct activities intended to promote recovery of species that are listed as endangered or threatened under the ESA.

Background

With some exceptions, the ESA prohibits activities that constitute take of wildlife species listed as endangered and, by regulation, certain wildlife species listed as threatened unless a Federal permit is issued that allows such activity. The ESA's definition of “take” includes such activities as pursuing, harassing, trapping, capturing, or collecting, in addition to hunting, shooting, harming, wounding, or killing.

A recovery permit issued by us under section 10(a)(1)(A) of the ESA authorizes the permittee to conduct activities with endangered or threatened species for scientific purposes that promote recovery or for enhancement of propagation or survival of the species. These activities often include such prohibited actions as capture and collection. Our regulations implementing section 10(a)(1)(A) for these permits are found in the Code of Federal Regulations at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Application No. | Applicant, city, state | Species | Location | Take activity | Permit action
PER0002932 | Karen M. Thorne, Davis, California | • Soft bird's-beak (Cordylanthus mollis ssp. mollis) | CA | Remove and reduce to possession from lands under Federal jurisdiction | New.
PER0003155 | Emily Mastrelli, Alpine, California | • Quino checkerspot butterfly (Euphydryas editha quino) | CA | Pursue, capture, handle, release, and collect vouchers | Renew.
|  | • Conservancy fairy shrimp (Branchinecta conservatio)
|  | • Longhorn fairy shrimp (Branchinecta longiantenna)
|  | • San Diego fairy shrimp (Branchinecta sandiegonensis)
|  | • Riverside fairy shrimp (Streptocephalus woottoni)
|  | • Vernal pool tadpole shrimp (Lepidurus packardi)
PER0003704 | University of Hawaii, Honolulu, Hawaii | • Smith's blue butterfly (Euphilotes enoptes smithi) | CA | Pursue, capture, and collect for genetic analysis research | Renew.
PER0003722 | James Hickman, San Bernardino, California | • Quino checkerspot butterfly (Euphydryas editha quino) | CA | Pursue, survey, capture, handle, and release | Renew.
|  | • San Bernardino Merriam's kangaroo rat (Dipodomys merriami parvus)
PER0003725 | Melanie Madden, Department of the Navy, San Diego, California | • Southwestern willow flycatcher (Empidonax traillii extimus) • Least Bell's vireo (Vireo bellii pusillus) | CA | Play taped vocalizations, monitor nests, capture, collect genetic samples, handle, band, and remove brown-headed cowbird (Molothrus ater) eggs and chicks from parasitized nests | Amend.
PER0003728 | Tim Bean, San Luis Obispo, California | • Giant kangaroo rat (Dipodomys ingens) | CA | Capture, handle, collect genetic samples, and release | Renew.
PER0003214 | Monica Alfaro, San Diego, California | • Quino checkerspot butterfly (Euphydryas editha quino) • Southwestern willow flycatcher (Empidonax traillii extimus) | CA | Pursue and play taped vocalizations | Renew.
PER0003749 | David Cook, Santa Rosa, California | • California tiger salamander (Santa Barbara County and Sonoma County Distinct Population Segments (DPSs)) (Ambystoma californiense) | CA | Capture, handle, mark, collect vouchers, collect tissue samples, and conduct training workshops | Renew.
PER0003763 | Daniel Cooper, Oak Park, California | • Southwestern willow flycatcher (Empidonax traillii extimus) | CA | Play taped vocalizations | Renew.
PER0003167 | Elyssa Robertson, Imperial Beach, California | • Quino checkerspot butterfly (Euphydryas editha quino) | CA | Pursue | Renew.
PER0002930 | Environmental Science Associates, Sacramento, California | • Owens tui chub (Gila bicolor ssp. snyderi) | CA | Population monitoring, capture, handle, tag, release, and electrofish. | New.
PER0003852 | Daniel Cordova, U.S. Bureau of Reclamation, Sacramento, California | • Conservancy fairy shrimp (Branchinecta conservatio) • Longhorn fairy shrimp (Branchinecta longiantenna) | CA | Survey, nest monitor, capture, handle, band, collect vouchers, and erect predator exclosures | Renew.
|  | • Vernal pool tadpole shrimp (Lepidurus packardi)
|  | • California least tern (Sterna antillarum browni)
|  | • California tiger salamander (Santa Barbara County and Sonoma County Distinct Population Segments (DPSs)) (Ambystoma californiense) • Tidewater goby (Eucyclogobius newberryi)
PER0002928 | Fresno Chaffee Zoo, Fresno California | • Blunt-nosed leopard lizard (Gambelia silus) | CA | Capture, handle, captive rear, mark, collect blood and tissue samples, test for diseases, propagate, provide veterinary treatment and husbandry, transport, and release | New.
PER0002866 | Darren Wiemeyer, Santa Rosa, California | • California tiger salamander (Santa Barbara County and Sonoma County Distinct Population Segments (DPSs)) (Ambystoma californiense) | CA | Capture, handle, and release | New.
PER0003898 | Robert Hamilton, Long Beach, California | • Southwestern willow flycatcher (Empidonax traillii extimus) | CA | Play taped vocalization | Renew.
PER0003903 | Pyramid Lake Paiute Tribe, Reno, Nevada | • Cui-ui (Chasmistes cujus) | NV | Capture, handle, collect tissue samples, manual spawn, and release | New.
PER0002512 | Gwendolin C. Santos, San Francisco, California | • California clapper rail (Rallus longirostris obsoletus) | CA | Play taped vocalization | New.
PER0003977 | Cassandra J. Carroll, University of Nevada, Reno, Reno, Nevada | • Carson wandering skipper (Pseudocopaeodes eunus obscurus) | CA, NV | Pursue, capture, handle, collect tissue sample, release | New.
PER0002526 | Zoological Society of San Diego, San Diego, California | • Stephens' kangaroo rat (Dipodomys stephensi (incl. D. cascus)) • San Bernardino Merriam's kangaroo rat (Dipodomys merriami parvus) • Pacific pocket mouse (Perognathus longimembris pacificus) | CA | Survey, population monitoring, mark, translocate, captive breed, provide veterinary treatment and husbandry, and release | New.
PER0002931 | Lorena Bernal, San Diego, California | • Quino checkerspot butterfly (Euphydryas editha quino) | CA | Pursue | Amend.
PER0002933 | Jordan Zylstra, San Jacinto, California | • Quino checkerspot butterfly (Euphydryas editha quino) | CA | Pursue | Renew.
PER0002934 | Jason E. St. Pierre, Cortez, Colorado | • Southwestern willow flycatcher (Empidonax traillii extimus) | AZ, CA, CO, NM, NV, UT | Play taped vocalization | Amend.
PER0002936 | Lindsay Griffin, Ventura, California | • Tidewater goby (Eucyclogobius newberryi) | CA | Capture, handle, collect voucher, release | Renew.
PER0004041 | California Department of Parks and Recreation, Oceano Dunes District | • Tidewater goby (Eucyclogobius newberryi) • California least tern (Sterna antillarum browni) | CA | Capture, handle, band, move eggs, float eggs, monitor with drones, manage invasive species, and release individuals | Amend.
PER0002902 | Carolynn Daman, San Luis Obispo, California | • Tipton kangaroo rat (Dipodomys nitratoides nitratoides) | CA | Capture, handle, and release | Renew and amend.
|  | • Fresno kangaroo rat (Dipodomys nitratoides exilis)
|  | • Giant kangaroo rat (Dipodomys ingens)
PER0002934 | Jason St. Pierre, Durango, Colorado | • Southwestern willow flycatcher (Empidonax traillii extimus) | AZ, CA, CO, NM, NV, UT | Play taped vocalizations | Amend.
PER0004071 | Sharon Dulava, San Jose, California | • California clapper rail (Rallus longirostris obsoletus) | CA | Play taped vocalizations | New.
PER0004121 | Margaret Mulligan, San Diego, California | • Quino checkerspot butterfly (Euphydryas editha quino) | CA | Pursue | Renew.
PER0004174 | Mark J. Bellini, Ojai, California | • Southwestern willow flycatcher (Empidonax traillii extimus) • Least Bell's vireo (Vireo bellii pusillus) | CA | Play taped vocalizations and monitor nests | Amend.
PER0004496 | Scott Werner, Ojai, California | • Southwestern willow flycatcher (Empidonax traillii extimus) • Least Bell's vireo (Vireo bellii pusillus) | CA | Play taped vocalizations, monitor nests, and remove brown-headed cowbird (Molothrus ater) eggs and chicks from parasitized nests | Renew.
PER0005173 | Thomas Ryan, Monrovia, California | • California clapper rail (Rallus longirostris obsoletus) • Light-footed clapper rail (Rallus longirostris levipes) • Yuma Ridgways (clapper) rail (Rallus obsoletus [=longirostris] yumanensis) • California least tern (Sterna antillarum browni) • Southwestern willow flycatcher (Empidonax traillii extimus) • Least Bell's vireo (Vireo bellii pusillus) | CA | Survey, play taped vocalizations, locate and monitor nests, capture, handle, measure, band and release, float eggs, use nest exclosures, mark, radio tag, erect and use cameras to monitor nesting sites, conduct predator aversion activities, collect abandoned or non-viable eggs, collect feathers, and remove brown-headed cowbird (Molothrus ater) eggs and chicks from parasitized nests | Renew and Amend.
PER0007536 | Linette Davenport, Anchorage, Alaska | • Southwestern willow flycatcher (Empidonax traillii extimus) • Least Bell's vireo (Vireo bellii pusillus) | CA | Play taped vocalizations, monitor nests, and remove brown-headed cowbird (Molothrus ater) eggs and chicks from parasitized nests | Renew.
ES-837760 | Kendall Osborne, Jurupa Valley, California | • Quino checkerspot butterfly (Euphydryas editha quino) | CA | Pursue, capture, handle, and release | Renew and amend.
|  | • Palos Verdes blue butterfly (Glaucopsyche lygdamus palosverdesensis)
|  | • El Segundo blue butterfly (Euphilotes battoides allyni)
|  | • Delhi Sands flower-loving fly (Rhaphiomidas terminatus abdominalis),
|  | • Laguna Mountains skipper (Pyrgus ruralis lagunae),
|  | • Casey's June beetle (Dinacoma caseyi)
PER0009318 | Yurok Tribe Wildlife Department, Klamath, California | • California condor (Gymnogyps californianus) | AZ, CA, ID, NM, NV, UT | Capture, handle, transport wild or captive-bred individuals, conduct health checks, treat injured or sick individuals, and release | New.
PER0008862 | SWCA, Inc., San Luis Obispo, California | • Morro shoulderband (=Banded dune) snail (Helminthoglypta walkeriana) • Tipton kangaroo rat (Dipodomys nitratoides nitratoides) • Fresno kangaroo rat (Dipodomys nitratoides exilis) • Giant kangaroo rat (Dipodomys ingens) | CA | Capture, handle, release, and perform habitat enhancement | Renew.
PER0008920 | Meghan R. Bishop, Richmond, California | • California tiger salamander (Santa Barbara County and Sonoma County Distinct Population Segments (DPSs)) (Ambystoma californiense) | CA | Capture, handle, collect voucher specimens, and release | Renew.
|  | • Conservancy fairy shrimp (Branchinecta conservatio)
|  | • Longhorn fairy shrimp (Branchinecta longiantenna)
|  | • San Diego fairy shrimp (Branchinecta sandiegonensis)
|  | • Vernal pool tadpole shrimp (Lepidurus packardi)

Public Availability of Comments

Written comments we receive become part of the record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Next Steps

If we decide to issue permits to any of the applicants listed in this notice, we will publish a notice in the Federal Register.

Authority

We publish this notice under section 10(c) of the Endangered Species Act of 1973, as amended (16 U.S.C. 1531 et seq.).

Angela Picco,
Regional Ecological Services Program Leader, California-Great Basin Region 10 (formerly Pacific Southwest Regional Office-Region 8).

[FR Doc. 2021-10773 Filed 5-20-21; 8:45 am]

BILLING CODE 4333-15-P